NUCLEAR REGULATORY COMMISSION

[Docket No. 72-27; NRC-2018-0282]

Pacific Gas & Electric Company; Humboldt Bay Independent Spent Fuel Storage Installation

AGENCY: Nuclear Regulatory Commission.

ACTION: License renewal; issuance.

SUMMARY: The U.S. Nuclear Regulatory Commission (NRC) has issued a renewed license to Pacific Gas and Electric Company (PG&E), (“licensee”) for Special Nuclear Materials (SNM) License No. SNM-2514 for the receipt, possession, transfer, and storage of spent fuel from the Humboldt Bay Nuclear Plant in the Humboldt Bay Independent Spent Fuel Storage Installation (ISFSI), located in Humboldt County, California. The renewed license authorizes operation of the Humboldt ISFSI in accordance with the provisions of the renewed license and its technical specifications. The renewed license expires on November 17, 2065.

DATES: The license referenced in this document is available on June 10, 2020.

ADDRESSES: Please refer to Docket ID NRC-2018-0282 when contacting the NRC about the availability of information regarding this document. You may obtain publicly-available information related to this document using any of the following methods:

• Federal Rulemaking Website: Go to https://www.regulations.gov and search for Docket ID NRC-2018-0282. Address questions about NRC docket IDs in Regulations.gov to Jennifer Borges; telephone: 301-287-9127; email: Jennifer.Borges@nrc.gov. For technical questions, contact the individual(s) listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. For the convenience of the reader, instructions about obtaining materials referenced in this document are provided in the “Availability of Documents” section.

FOR FURTHER INFORMATION CONTACT: Christopher T. Markley, Office of Nuclear Material Safety and Safeguards, U.S. Nuclear Regulatory Commission, Washington, DC 20555-0001; telephone: 301-415-6293, email: Christopher.Markley@nrc.gov.

SUPPLEMENTARY INFORMATION:

I. Discussion

Based upon the application dated July 10, 2018, as supplemented October 22, 2018, July 1, 2019, July 25, 2019, and November 21, 2019, the NRC has issued a renewed license to the licensee for the Humboldt Bay ISFSI, located in Humboldt County, California. The renewed license SNM-2514 authorizes and requires operation of the Humboldt Bay ISFSI in accordance with the provisions of the renewed license and its technical specifications. The renewed license will expire on November 17, 2065.

The licensee's application for a renewed license complies with the standards and requirements of the Atomic Energy Act of 1954, as amended (the Act), and the NRC's rules and regulations. The NRC has made appropriate findings as required by the Act and the NRC's regulations in Chapter 1 of title 10 of the Code of Federal Regulations (10 CFR), and sets forth those findings in the renewed license. The agency afforded an opportunity for a hearing in the Notice of Opportunity for a Hearing published in the Federal Register on December 26, 2018 (83 FR 66314). The NRC received no request for a hearing or petition for leave to intervene following the notice.

The NRC staff prepared a safety evaluation report for the renewal of the ISFSI license and concluded, based on that evaluation that the ISFSI will continue to meet the regulations in 10 CFR part 72. The NRC staff also prepared an environmental assessment and finding of no significant impact for the renewal of this license, which were published on May 5, 2020 (85 FR 26734). The NRC staff's environmental assessment included the impacts of continued storage of spent nuclear fuel (as documented in NUREG-2157, “Generic Environmental Impact Statement for Continued Storage of Spent Fuel”). The NRC staff concluded that renewal of this ISFSI license will not have a significant impact on the quality of the human environment.

II. Availability of Documents

The following table includes the ADAMS accession numbers for the documents referenced in this notice. For additional information on accessing ADAMS, see the ADDRESSES section of this document.

Document | ADAMS Accession No.
Licensee's application, dated July 10, 2018 | ML18215A202
Response to First Request for Supplemental Information, dated October 22, 2018 | ML18330A050
Partial Response to Request for Additional Information, dated July 1, 2019 | ML19197A026
Remaining Response to Request for Referenced Information, dated July 25, 2019 | ML19221B564
Humboldt Bay Independent Spent Fuel Storage Installation, Revision to the Renewal Application (CAC/EPID No. 001028/L-2018-RNW-0016) | ML19337C633
Special Nuclear Materials License No. SNM-2514 | ML20161A027
SNM-2514 Technical Specifications | ML20161A028
NRC Safety Evaluation Report | ML20161A029
NRC Environmental Assessment | ML19252A248
NUREG-2157, “Generic Environmental Impact Statement for Continued Storage of Spent Fuel” | ML14196A105 ML14196A107

Dated: June 17, 2020.
For the Nuclear Regulatory Commission.
John B. McKirgan,
Chief, Storage and Transportation Licensing Branch, Division of Fuel Management, Office of Nuclear Material Safety and Safeguards.

[FR Doc. 2020-13379 Filed 6-19-20; 8:45 am]

BILLING CODE 7590-01-P